DEPARTMENT OF TRANSPORTATION

Federal Aviation Administration

14 CFR Part 39

[Docket No. FAA-2014-0648; Directorate Identifier 2013-NM-136-AD; Amendment 39-18344; AD 2015-25-06]

RIN 2120-AA64

Airworthiness Directives; Airbus Airplanes

AGENCY: Federal Aviation Administration (FAA), Department of Transportation (DOT).

ACTION: Final rule.

SUMMARY: We are superseding Airworthiness Directive (AD) 2010-06-04, for certain Airbus Model A300 B2-1C, B2-203, B2K-3C, B4-103, B4-203, B4-2C airplanes; Model A310 series airplanes; Model A300 B4-600 series airplanes; and Model A300 B4-600R series airplanes. AD 2010-06-04 required repetitive inspections to detect cracks of the pylon side panels (upper section) at rib 8; and corrective actions if necessary. This new AD continues to require repetitive inspections for cracking of the pylons 1 and 2 side panels (upper section) at rib 8 with reduced compliance times, and corrective actions if necessary. This AD also requires repetitive post-repair and post-modification inspections and repair if necessary. This AD also removes certain airplanes having a certain modification from the applicability. This AD was prompted by reports of cracks found on pylon side panels at rib 8 and a fleet survey and updated fatigue and damage tolerance analyses. We are issuing this AD to detect and correct cracking of pylon side panels (upper section) at rib 8, which could lead to reduced structural integrity of the pylon primary structure, which could cause detachment of the engine from the fuselage.

DATES: This AD becomes effective February 2, 2016.

The Director of the Federal Register approved the incorporation by reference of certain publications listed in this AD as of February 2, 2016.

The Director of the Federal Register approved the incorporation by reference of certain other publications listed in this AD as of April 15, 2010 ((75 FR 11428, March 11, 2010); corrected May 4, 2010 (75 FR 23572)).

ADDRESSES: You may examine the AD docket on the Internet at http://www.regulations.gov/#!docketDetail;D=FAA-2014-0648; or in person at the Docket Management Facility, U.S. Department of Transportation, Docket Operations, M-30, West Building Ground Floor, Room W12-140, 1200 New Jersey Avenue SE., Washington, DC.

For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0648.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2010-06-04, Amendment 39-16228 ((75 FR 11428, March 11, 2010); corrected May 4, 2010 (75 FR 23572)). AD 2010-06-04 applied to certain Airbus Model A300 B2-1C, B2-203, B2K-3C, B4-103, B4-203, B4-2C airplanes; Model A310 series airplanes; Model A300 B4-600 series airplanes; and Model A300 B4-600R series airplanes. The NPRM published in the Federal Register on September 22, 2014 (79 FR 56526).

The European Aviation Safety Agency (EASA), which is the Technical Agent for the Member States of the European Union, has issued EASA Airworthiness Directive 2013-0136R1, dated July 30, 2013 (referred to after this as the Mandatory Continuing Airworthiness Information, or “the MCAI”), to correct an unsafe condition on certain Airbus Model A300 B2-1C, B2-203, B2K-3C, B4-103, B4-203, B4-2C airplanes; Model A310 series airplanes; Model A300 B4-600 series airplanes; and Model A300 B4-600R series airplanes. The MCAI states:

Cracks were found on pylon side panels (upper section) at rib 8 on Airbus A300, A310 and A300-600 aeroplanes equipped with General Electric engines. Investigation of these findings indicated that this problem was likely to also affect aeroplanes of this type design with other engine installations.

This condition, if not detected and corrected, could lead to reduced strength of the pylon primary structure, possibly resulting in pylon structural failure and in-flight loss of an engine.

Prompted by these findings, EASA issued AD 2008-0181 [http://www.regulations.gov/#!documentDetail;D=FAA-2009-0789-0002] [which corresponds to FAA AD 2010-06-04, Amendment 39-16228 ((75 FR 11428, March 11, 2010); corrected May 4, 2010 (75 FR 23572))] to require repetitive detailed visual inspections [of the pylon side panels (upper section) at rib 8] and, depending on aeroplane configuration and/or findings, the accomplishment of applicable corrective action(s).

Since that [EASA] AD was issued, a fleet survey and updated Fatigue and Damage Tolerance analyses have been performed in order to substantiate the second A300-600 Extended Service Goal (ESG2) exercise. The results of these analyses have shown that the risk for these aeroplanes is higher than initially determined and consequently, the threshold and interval must be reduced to allow timely detection of these cracks and the accomplishment of applicable correction action(s).

EASA issued AD 2013-0136 [http://ad.easa.europa.eu/ad/2013-0136R1] which retained the requirements of EASA AD 2008-0181, which was superseded, and required the inspections to be accomplished within reduced thresholds and intervals.

After publication of EASA AD 2013-0136, it appeared that Airbus Mod 03599 had no influence on the aeroplane configuration affected by this AD. At the same time Airbus Service Bulletin (SB) A30-54-6015 Revision 3 was not integrally taken into account as this revision no longer identifies configuration 3 aeroplanes.

For the reasons described above, EASA [AD] 2013-0136 is revised to exclude Airbus Mod 03599 from the applicability and to delete the reference to the configuration 3 for A300-600 aeroplanes.

Corrective actions include doing a repair. This AD also provides an optional modification (installing a doubler), which would terminate the repetitive inspections. Required actions also include repetitive post-repair and post-modification inspections and repair if necessary. You may examine the MCAI in the AD docket on the Internet at http://www.regulations.gov/#!documentDetail;D=FAA-2014-0648-0002.

Comments

We gave the public the opportunity to participate in developing this AD. The following presents the comment received on the NPRM (79 FR 56526, September 22, 2014) and the FAA's response.

Request To Revise Method Used To Determine Compliance Times

United Parcel Service (UPS) requested that we revise the proposed compliance times to be less complex. UPS stated that the proposed compliance times contain a method known as “Average Flight Time” (AFT) which results in a variable flight hour limit and adds unnecessary complexity to the threshold table and subsequent inspection actions. UPS added that use of the AFT method, along with a lack of standard procedures for implementing the AFT method would create uncertainty for operators and inspectors trying to determine the correct compliance time. UPS stated that in review of prior FAA ADs, including AD 98-18-02, Amendment 39-10718 (63 FR 45689, August 27, 1998), that the FAA does not concur with the AFT compliance time methodology as “. . . such adjustments may not address the unsafe condition in a timely manner” and “. . . they (AFT compliance times) do not fit into the AD tracking process for operators or for Principle Maintenance Inspectors (PMIs) attempting to ascertain compliance with ADs.”

UPS compiled a table of fixed compliance times that it suggested would be simpler to use instead of the proposed AFT-based compliance times.

We disagree with the commenter's request to revise the compliance times in this AD. The compliance times, as proposed, use fixed flight-cycle and flight-hour compliance times. For only Model A310 series airplanes, the compliance times depend on whether airplanes are short range or long range airplanes. We acknowledge that this causes additional complexity in tracking and forecasting airplane utilization; however, the inspection schedule was created by Airbus to offer operators the greatest flexibility. Operators may elect to inspect within the range that complies with both the long range and short range utilization in order to reduce the complexity. We have not changed this AD in this regard.

Regarding AD 98-18-02, Amendment 39-10718 (63 FR 45689, August 27, 1998), at the time the FAA issued AD 98-18-02, the required actions in Airbus Industrie Service Bulletin A300-57-6027, Revision 2, dated September 13, 1994, contained inspection thresholds and intervals based on airplane flight cycles, and provided instructions for adjusting the flight cycle threshold and interval using each individual airplane's AFT utilization. The FAA did not agree with the AFT method because it could result in a different inspection threshold and interval for each individual airplane, and the FAA did not agree with adjusting a flight cycle based threshold and interval using the average flight time utilization without also having a related flight hour based threshold and interval.

Conclusion

We reviewed the available data, including the comment received, and determined that air safety and the public interest require adopting this AD as proposed except for minor editorial changes. We have determined that these minor changes:

• Are consistent with the intent that was proposed in the NPRM (79 FR 56526, September 22, 2014) for correcting the unsafe condition; and

• Do not add any additional burden upon the public than was already proposed in the NPRM (79 FR 56526, September 22, 2014).

Related Service Information Under 1 CFR Part 51

Airbus has issued the following service information. The service information describes procedures for repetitive inspections for cracking of the pylons 1 and 2 side panels (upper section) at rib 8 with reduced compliance times, and corrective actions if necessary. This service information also describes procedures for post-modification and post-repair detailed inspections for cracking, as applicable, of the left-hand (LH) and right-hand (RH) side panels of pylons 1 and 2, and repair if necessary. This service information is reasonably available because the interested parties have access to it through their normal course of business or by the means identified in the ADDRESSES section.

• Airbus Service Bulletin A300-54-0075, Revision 03, excluding Appendixes 1, 2, 3, and 5; including Appendix 4; dated March 27, 2013.

• Airbus Service Bulletin A310-54-2018, Revision 03, excluding Appendixes 1, 2, 3, and 5; including Appendix 4; dated April 11, 2013.

• Airbus Service Bulletin A300-54-6015, Revision 03, excluding Appendixes 1, 2, 3, and 5; including Appendix 4; dated April 11, 2013.

Airbus has also issued the following service information. This service information describes procedures for modifying by installing a doubler on the LH pylon 1 and RH pylon 2, on pylon side panels (upper section), at rib 8. This service information is reasonably available because the interested parties have access to it through their normal course of business or by the means identified in the ADDRESSES section.

• Airbus Service Bulletin A300-54-0081, dated August 11, 1993.

• Airbus Service Bulletin A310-54-2024, dated August 11, 1993.

• Airbus Service Bulletin A300-54-6021, Revision 02, dated May 21, 2008.

Costs of Compliance

We estimate that this AD affects 156 airplanes of U.S. registry. We estimate the following costs to comply with this AD:

Estimated Costs
Action | Labor cost | Parts cost | Cost per product | Cost on U.S. operators
Inspection [retained actions from AD 2010-06-04, Amendment 39-16228 ((75 FR 11428, March 11, 2010); corrected May 4, 2010 (75 FR 23572))] | 4 work-hours × $85 per hour = $340 | $0 | $340 | $53,040.
Inspection [new actions] | 24 work-hours × $85 per hour = $2,040 per inspection cycle | 0 | $2,040 per inspection cycle | $318,240 per inspection cycle.

We estimate the following costs to do any necessary repairs that would be required based on the results of the inspection. We have no way of determining the number of aircraft that might need these repairs:

On-Condition Costs
Action | Labor cost | Parts cost | Cost per product
Repair | 58 work-hours × $85 per hour = $4,930 | $3,910 | $8,840.
Optional Modification | Up to 48 work-hours × $85 per hour = $4,080 | Up to $1,026 | Up to $5,106.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0648; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2010-06-04, Amendment 39-16228 ((75 FR 11428, March 11, 2010); corrected May 4, 2010 (75 FR 23572)), and adding the following new AD:

2015-25-06 Airbus: Amendment 39-18344. Docket No. FAA-2014-0648; Directorate Identifier 2013-NM-136-AD.

(a) Effective Date

This AD becomes effective February 2, 2016.

(b) Affected ADs

This AD replaces AD 2010-06-04, Amendment 39-16228 ((75 FR 11428, March 11, 2010); corrected May 4, 2010 (75 FR 23572)).

(c) Applicability

This AD applies to the airplanes identified in paragraphs (c)(1), (c)(2), and (c)(3) of this AD, certificated in any category.

(1) Airbus Model A300 B2-1C, B2-203, B2K-3C, B4-103, B4-203, and B4-2C airplanes, on which Airbus Modification 02434 has been embodied in production.

(2) Airbus Model A310-203, -204, -221, -222, -304, -322, -324, and -325 airplanes, except those on which Airbus Modification 10432 has been embodied in production.

(3) Airbus Model A300 B4-601, B4-603, B4-605R, B4-620, B-622, and B4-622R airplanes, except those on which Airbus Modification 10432 has been embodied in production.

(d) Subject

Air Transport Association (ATA) of America Code 54, Nacelles/Pylons.

(e) Reason

This AD was prompted by reports of cracks found on pylon side panels at rib 8 and a fleet survey and updated fatigue and damage tolerance analyses. We are issuing this AD to detect and correct cracking of pylon side panels (upper section) at rib 8, which could lead to reduced structural integrity of the pylon primary structure, which could cause detachment of the engine from the fuselage.

(f) Compliance

Comply with this AD within the compliance times specified, unless already done.

(g) Retained Actions and Compliance With Revised Service Information

This paragraph restates the requirements of paragraph (f) of AD 2010-06-04, Amendment 39-16228 ((75 FR 11428, March 11, 2010); corrected May 4, 2010 (75 FR 23572)), with revised service information. Accomplishing the initial inspection required by paragraph (h) of this AD terminates the requirements of this paragraph.

(1) For Configuration 01 airplanes as identified in the applicable service bulletin identified in paragraph (g)(9) of this AD: At the applicable time specified in table 1 to paragraph (g) of this AD, except as required by paragraphs (g)(2) and (g)(3) of this AD, perform a detailed visual inspection of the pylons 1 and 2 side panels (upper section) at rib 8, in accordance with paragraph 3.B. of the Accomplishment Instructions of the applicable service bulletin identified in paragraph (g)(9)(i) through (g)(9)(iii) of this AD or paragraphs (k)(1), (k)(2), or (k)(3) of this AD. Repeat the inspection at the time specified in table 1 to paragraph (g) of this AD.

Table 1 to Paragraph (g) of This AD—Compliance Times for Configuration 1 Airplanes
For Model— | That have accumulated— | Inspect before the accumulation of— | Or within— | And repeat the inspection at intervals not to exceed—
|  | Whichever occurs later |  |
A300 B2-1C, B2-203, and B2K-3C airplanes | ≤17,500 total flight cycles ¹ | 5,350 total flight cycles | 2,500 flight cycles ² | 4,300 flight cycles.
A300 B2-1C, B2-203, and B2K-3C airplanes | >17,500 total flight cycles ¹ | 20,000 total flight cycles or 40,000 total flight hours, whichever occurs first | 250 flight cycles ² | 4,300 flight cycles.
A300 B4-103, B4-203, and B4-2C airplanes | ≤18,000 total flight cycles ¹ | 5,350 total flight cycles | 2,000 flight cycles ² | 4,300 flight cycles.
A300 B4-103, B4-203, and B4-2C airplanes | >18,000 total flight cycles ¹ | 20,000 total flight cycles or 40,000 total flight hours, whichever occurs first | 250 flight cycles ² | 4,300 flight cycles.
A300 B4-601, B4-603, B4-605R, B4-620, B4-622, and B4-622R airplanes | ≤18,000 total flight cycles ¹ | 4,200 total flight cycles | 2,000 flight cycles ² | 3,600 flight cycles.
A300 B4-601, B4-603, B4-605R, B4-620, B4-622, and B4-622R airplanes | >18,000 total flight cycles ¹ | 20,000 total flight cycles or 40,000 total flight hours, whichever occurs first | 250 flight cycles ² | 3,600 flight cycles.
A310-200 airplanes with GE CF6-80A3 or Pratt & Whitney engines | ≤18,000 total flight cycles ¹ | 9,700 total flight cycles or 19,400 total flight hours, whichever occurs first | 1,500 flight cycles ² | 6,700 flight cycles or 13,400 flight hours, whichever occurs first.
A310-200 airplanes with GE CF6-80A3 or Pratt & Whitney engines | >18,000 total flight cycles ¹ | 19,500 total flight cycles or 55,500 total flight hours, whichever occurs first | 250 flight cycles ² | 6,700 flight cycles or 13,400 flight hours, whichever occurs first.
A310-200 airplanes with GE CF6-80C2 engines | ≤18,000 total flight cycles ¹ | 7,800 total flight cycles or 15,600 total flight hours, whichever occurs first | 1,500 flight cycles ² | 5,800 flight cycles or 11,600 flight hours, whichever occurs first.
A310-200 airplanes with GE CF6-80C2 engines | >18,000 total flight cycles ¹ | 19,500 total flight cycles or 55,500 total flight hours, whichever occurs first | 250 flight cycles ² | 5,800 flight cycles or 11,600 flight hours, whichever occurs first.
A310-300 SR ³ airplanes with Pratt & Whitney JT9D engines | ≤18,000 total flight cycles ¹ | 8,600 total flight cycles or 24,000 total flight hours, whichever occurs first | 1,500 flight cycles ² | 6,700 flight cycles or 18,700 flight hours, whichever occurs first.
A310-300 SR ³ airplanes with Pratt & Whitney JT9D engines | >18,000 total flight cycles ¹ | 19,500 total flight cycles or 55,500 total flight hours, whichever occurs first | 250 flight cycles ² | 6,700 flight cycles or 18,700 flight hours, whichever occurs first.
A310-300 SR ³ airplanes with GE engines | ≤18,000 total flight cycles ¹ | 7,000 total flight cycles or 19,600 total flight hours, whichever occurs first | 1,500 flight cycles ² | 5,700 flight cycles or 15,900 flight hours, whichever occurs first.
A310-300 SR ³ airplanes with GE engines | >18,000 total flight cycles ¹ | 19,500 total flight cycles or 55,500 total flight hours, whichever occurs first | 250 flight cycles ² | 5,700 flight cycles or 15,900 flight hours, whichever occurs first.
A310-300 SR ³ airplanes with Pratt & Whitney 4000 engines | ≤18,000 total flight cycles ¹ | 7,000 total flight cycles or 19,600 total flight hours, whichever occurs first | 1,500 flight cycles ² | 5,800 flight cycles or 16,200 flight hours, whichever occurs first.
A310-300 SR ³ airplanes with Pratt & Whitney 4000 engines | >18,000 total flight cycles ¹ | 19,500 total flight cycles or 55,500 total flight hours, whichever occurs first | 250 flight cycles ² | 5,800 flight cycles or 16,200 flight hours, whichever occurs first.
A310-300 LR ⁴ airplanes with Pratt & Whitney JT9D engines | ≤18,000 total flight cycles ¹ | 5,900 total flight cycles or 29,500 total flight hours, whichever occurs first | 1,500 flight cycles ² | 6,000 flight cycles or 30,300 flight hours, whichever occurs first.
A310-300 LR ⁴ airplanes with Pratt & Whitney JT9D engines | >18,000 total flight cycles ¹ | 19,500 total flight cycles or 55,500 total flight hours, whichever occurs first | 250 flight cycles ² | 6,000 flight cycles or 30,300 flight hours, whichever occurs first.
A310-300 LR ⁴ airplanes with GE engines | ≤18,000 total flight cycles ¹ | 4,800 total flight cycles or 24,100 total flight hours, whichever occurs first | 1,500 flight cycles ² | 5,100 flight cycles or 25,500 flight hours, whichever occurs first.
A310-300 LR ⁴ airplanes with GE engines | >18,000 total flight cycles ¹ | 19,500 total flight cycles or 55,500 total flight hours, whichever occurs first | 250 flight cycles ² | 5,100 flight cycles or 25,500 flight hours, whichever occurs first.
A310-300 LR ⁴ airplanes with Pratt & Whitney 4000 engines | ≤18,000 total flight cycles ¹ | 4,800 total flight cycles or 24,000 total flight hours, whichever occurs first | 1,500 flight cycles ² | 5,200 flight cycles or 26,300 flight hours, whichever occurs first.
A310-300 LR ⁴ airplanes with Pratt & Whitney 4000 engines | >18,000 total flight cycles ¹ | 19,500 total flight cycles or 55,500 total flight hours, whichever occurs first | 250 flight cycles ² | 5,200 flight cycles or 26,300 flight hours, whichever occurs first.
¹ As of April 15, 2010 (the effective date of AD 2010-06-04, Amendment 39-16228 ((75 FR 11428, March 11, 2010); corrected May 4, 2010 (75 FR 23572))).
² After April 15, 2010 (the effective date of AD 2010-06-04, Amendment 39-16228 ((75 FR 11428, March 11, 2010; corrected May 4, 2010 (75 FR 23572))).
³ “SR” applies to airplanes with average flights less than 4 flight hours.
⁴ “LR” refers to airplanes with average flights of 4 or more flight hours.

(2) For Model A300 and A300-600 airplanes that have accumulated more than 40,000 total flight hours as of April 15, 2010 (the effective date of AD 2010-06-04, Amendment 39-16228 ((75 FR 11428, March 11, 2010); corrected May 4, 2010 (75 FR 23572))): Within 250 flight cycles after April 15, 2010, do the actions specified in paragraph (g)(1) of this AD.

(3) For Model A310 airplanes that have accumulated more than 55,500 total flight hours as of April 15, 2010 (the effective date of AD 2010-06-04, Amendment 39-16228 ((75 FR 11428, March 11, 2010); corrected May 4, 2010 (75 FR 23572))): Within 250 flight cycles after April 15, 2010, do the actions specified in paragraph (g)(1) of this AD.

(4) For Configuration 01 airplanes, as identified in the applicable service bulletin identified in paragraph (g)(9) of this AD: If a crack is found during any inspection required by paragraph (g)(1) of this AD, before further flight, install a doubler, in accordance with paragraph 3.C. of the Accomplishment Instructions of the applicable service bulletin identified in paragraph (g)(9) of this AD.

(5) For Configuration 02 airplanes, as identified in the applicable service bulletin identified in paragraph (g)(9) of this AD: At the applicable time specified in paragraph 1.E.(2) of the applicable service bulletin identified in paragraphs (g)(9)(i) through (g)(9)(iii) of this AD, or within 250 flight cycles after April 15, 2010 (the effective date of AD 2010-06-04, Amendment 39-16228 ((75 FR 11428, March 11, 2010); corrected May 4, 2010 (75 FR 23572))), whichever occurs later, perform a detailed visual inspection of the pylons 1 and 2 side panels (upper section) at rib 8, in accordance with paragraph 3.B. of the Accomplishment Instructions of the applicable service bulletin identified in paragraph (g)(9) of this AD.

(6) For Configuration 03 airplanes, as identified in the applicable service bulletin identified in paragraph (g)(9) of this AD: At the applicable time specified in paragraph 1.E.(2) of the applicable service bulletin identified in paragraphs (g)(9)(i) through (g)(9)(iii) of this AD, or within 250 flight cycles after April 15, 2010 (the effective date of AD 2010-06-04, Amendment 39-16228 ((75 FR 11428, March 11, 2010); corrected May 4, 2010 (75 FR 23572))), whichever occurs later, perform a detailed visual inspection, and a high frequency eddy current inspection as applicable, of the pylons 1 and 2 side panels (upper section) at rib 8, in accordance with paragraph 3.B. of the Accomplishment Instructions of the applicable service bulletin identified in paragraph (g)(9) of this AD.

(7) For Configuration 02 and 03 airplanes, as identified in the applicable service bulletin identified in paragraph (g)(9) of this AD: If a crack is found during any inspection required by paragraph (g)(1), (g)(5), or (g)(6) of this AD, before further flight, repair in accordance with paragraph 3.C. of the Accomplishment Instructions of the applicable service bulletin identified in paragraph (g)(9) of this AD.

(8) For all airplanes, except those in Configuration 01, as identified in the applicable service bulletin identified in paragraph (g)(9) of this AD: Repeat the inspection specified in paragraph (g)(1), (g)(5), or (g)(6) of this AD, as applicable, at the intervals specified in paragraph 1.E.(2) of the applicable service bulletin identified in paragraph (g)(9)(i) through (g)(9)(iii) of this AD.

(9) For the actions specified in paragraph (g) of this AD, use the applicable service bulletin identified in paragraphs (g)(9)(i) through (g)(9)(iii) of this AD, or paragraph (k)(1), (k)(2), or (k)(3) of this AD.

(i) Airbus Mandatory Service Bulletin A300-54-0075, excluding Appendixes 1, 2, and 3, Revision 02, dated June 26, 2008 (For Model A300 B2-1C, B2-203, B2K-3C, B4-103, B4-203, and B4-2C airplanes).

(ii) Airbus Mandatory Service Bulletin A300-54-6015, excluding Appendixes 1, 2, and 3, Revision 02, dated June 26, 2008 (For Model A300 B4-601, B4-603, B4-605R, B4-620, B4-622, and B4-622R airplanes).

(iii) Airbus Mandatory Service Bulletin A310-54-2018, excluding Appendixes 1, 2, and 3, Revision 02, dated June 26, 2008 (for Model A310 series airplanes).

(h) New Repetitive Inspections and Repair

Except as required by paragraphs (l)(1) and (l)(2) of this AD, at the applicable times specified in paragraph 1.E., “Compliance,” of the applicable service bulletin identified in paragraph (k) of this AD: Do a detailed inspection for cracking of the pylons 1 and 2 side panels (upper section) at rib 8, in accordance with the Accomplishment Instructions of the applicable service bulletin identified in paragraph (k) of this AD. Accomplishing the inspection required by this paragraph terminates the requirements of paragraph (g)(1) through (g)(9) of this AD.

(1) If any cracking is found, before further flight, do a high frequency eddy current (HFEC) inspection to confirm the crack, in accordance with the Accomplishment Instructions of the applicable service bulletin identified in paragraph (k) of this AD.

(i) If any crack indication is confirmed during the HFEC inspection specified in paragraph (h)(1) of this AD, and the crack is less than 20 mm, before further flight, repair, in accordance with the Accomplishment Instructions of the applicable service bulletin identified in paragraph (k) of this AD.

(ii) If any crack indication is confirmed during the HFEC inspection specified in paragraph (h)(1) of this AD and the crack is greater than or equal to 20 mm, before further flight, repair using a method approved by the Manager, International Branch, ANM-116, Transport Airplane Directorate, FAA; or the European Aviation Safety Agency (EASA); or Airbus's EASA Design Organization Approval (DOA).

(2) If no cracking is found, or if crack indication is not confirmed during the HFEC inspection required by paragraph (h)(1) of this AD, at the applicable interval specified in paragraph 1.E., “Compliance,” of the applicable service bulletin identified in paragraph (k) of this AD, repeat the inspection specified in paragraph (h) of this AD, in accordance with the Accomplishment Instructions of the applicable service bulletin identified in paragraph (k) of this AD until the modification specified in paragraph (i) is done.

(i) Optional Modification

Modifying by installing a doubler on the left hand (LH) pylon 1 and right hand (RH) pylon 2, on pylon side panels (upper section), at rib 8, in accordance with the Accomplishment Instructions of the service information identified in paragraph (i)(1), (i)(2), or (i)(3) of this AD; as applicable; terminates the repetitive inspections specified in paragraph (h)(2) of this AD.

(1) Airbus Service Bulletin A300-54-0081, dated August 11, 1993.

(2) Airbus Service Bulletin A310-54-2024, dated August 11, 1993.

(3) Airbus Service Bulletin A300-54-6021, Revision 02, dated May 21, 2008.

(j) Post-Modification and Post-Repair Repetitive Inspections and Corrective Actions

For airplanes on which the modification has been done as specified in paragraph (i) of this AD, and airplanes on which the repair has been done as specified in paragraph (h) of this AD: At the applicable compliance time specified in paragraph 1.E., Compliance,” of the applicable service bulletin identified in paragraph (k) of this AD, do the post-modification and post-repair detailed inspections for cracking, as applicable, of the LH and RH side panels of pylons 1 and 2, in accordance with the applicable service bulletins identified in paragraph (k) of this AD. Repeat the inspections thereafter at the times specified in paragraph 1.E., “Compliance” of the applicable service bulletin specified in paragraph (k) of this AD. If any cracking is found, before further flight, repair using a method approved by the Manager, International Branch, ANM-116, Transport Airplane Directorate, FAA; or EASA; or Airbus's EASA DOA. This repair is not a terminating action for the repetitive inspections required by this paragraph.

(k) New Service Information

Use the applicable service bulletin identified in paragraphs (k)(1) through (k)(3) of this AD to accomplish the inspections required by paragraphs (g), (h), and (j) of this AD.

(1) Airbus Service Bulletin A300-54-0075, Revision 03, excluding Appendixes 1, 2, 3, and 5; including Appendix 4; dated March 27, 2013 (for Model A300 B2-1C, B2-203, B2K-3C, B4-103, B4-203, and B4-2C airplanes).

(2) Airbus Service Bulletin A310-54-2018, Revision 03, excluding Appendixes 1, 2, 3, and 5; including Appendix 4; dated April 11, 2013 (for Model A310-203, -204, -221, -222, -304, -322, -324, and -325 airplanes).

(3) Airbus Service Bulletin A300-54-6015, Revision 03, excluding Appendixes 1, 2, 3, and 5; including Appendix 4; dated April 11, 2013 (for Model A300 B4-601, B4-603, B4-605R, B4-620, B4-622, and B4-622R airplanes).

(l) Exceptions

(1) Where the compliance time column in the tables in paragraph 1.E., “Compliance,” of the applicable service bulletin identified in paragraph (k) of this AD specifies a “threshold” in “FC” or “FH,” and does not specify from repair or service bulletin embodiment, those compliance times are total flight cycles and total flight hours.

(2) Where the tables in paragraph 1.E., “Compliance,” of the applicable service bulletin specified in paragraph (k) of this AD specifies “grace period after the receipt of the service bulletin,” this AD requires compliance within the corresponding compliance time after the effective date of this AD.

(m) Credit for Previous Actions

(1) This paragraph restates the credit provided by paragraph (f)(9) of AD 2010-06-04, Amendment 39-16228 ((75 FR 11428, March 11, 2010); corrected May 4, 2010 (75 FR 23572)) with no changes. This paragraph provides credit for initial inspections required by paragraph (g) of this AD, if those actions were performed prior to April 15, 2010 (the effective date of AD 2010-06-04) using the applicable service bulletins specified in paragraphs (m)(1)(i) through (m)(1)(vi) of this AD, which are not incorporated by reference in this AD.

(i) Airbus Service Bulletin A300-54-0075, dated August 11, 1993.

(ii) Airbus Service Bulletin A300-54-0075, Revision 01, dated November 9, 2007.

(iii) Airbus Service Bulletin A300-54-6015, dated August 11, 1993.

(iv) Airbus Service Bulletin A300-54-6015, Revision 01, dated November 9, 2007.

(v) Airbus Service Bulletin A310-54-2018, dated August 11, 1993.

(vi) Airbus Service Bulletin A310-54-2018, Revision 01, dated November 16, 2007.

(2) This paragraph provides credit for initial inspections required by paragraph (h) of this AD, if those actions were performed before the effective date of this AD using the applicable service bulletins specified in paragraphs (m)(2)(i) through (m)(2)(ix) of this AD.

(i) Airbus Service Bulletin A300-54-0075, dated August 11, 1993, which is not incorporated by reference in this AD.

(ii) Airbus Service Bulletin A300-54-0075, Revision 01, dated November 9, 2007, which is not incorporated by reference in this AD.

(iii) Airbus Service Bulletin A300-54-0075, Revision 02, dated June 26, 2008.

(iv) Airbus Service Bulletin A300-54-6015, dated August 11, 1993, which is not incorporated by reference in this AD.

(v) Airbus Service Bulletin A300-54-6015, Revision 01, dated November 9, 2007, which is not incorporated by reference in this AD.

(vi) Airbus Service Bulletin A300-54-6015, Revision 02, dated June 26, 2008.

(vii) Airbus Service Bulletin A310-54-2018, dated August 11, 1993, which is not incorporated by reference in this AD.

(viii) Airbus Service Bulletin A310-54-2018, Revision 01, dated November 16, 2007, which is not incorporated by reference in this AD.

(ix) Airbus Service Bulletin A310-54-2018, Revision 02, dated June 26, 2008.

(3) This paragraph provides credit for initial inspections required by paragraph (i) of this AD, if those actions were performed before the effective date of this AD using the applicable service bulletins specified in paragraphs (m)(3)(i) and (m)(3)(ii) of this AD.

(i) Airbus Service Bulletin A300-54-6021, dated August 11, 1993, which is not incorporated by reference in this AD.

(ii) Airbus Service Bulletin A300-54-6021, Revision 01, dated November 16, 2007, which is not incorporated by reference in this AD.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2010-06-04, Amendment 39-16228 ((75 FR 11428, March 11, 2010); corrected May 4, 2010 (75 FR 23572)); are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(o) Related Information

(1) Refer to Mandatory Continuing Airworthiness Information (MCAI) EASA Airworthiness Directive 2013-0136R1, dated July 30, 2013, for related information. You may examine the MCAI in the AD docket on the Internet at http://www.regulations.gov/#!documentDetail;D=FAA-2014-0648-0002.

(2) Service information identified in this AD that is not incorporated by reference is available at the addresses specified in paragraphs (p)(5) and (p)(6) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on February 2, 2016.

(i) Airbus Service Bulletin A300-54-0075, Revision 03, excluding Appendixes 1, 2, 3, and 5; including Appendix 4; dated March 27, 2013.

(ii) Airbus Service Bulletin A300-54-0081, dated August 11, 1993.

(iii) Airbus Service Bulletin A300-54-6015, Revision 03, excluding Appendixes 1, 2, 3, and 5; including Appendix 4; dated April 11, 2013.

(iv) Airbus Service Bulletin A300-54-6021, Revision 02, dated May 21, 2008.

(v) Airbus Service Bulletin A310-54-2018, Revision 03, excluding Appendixes 1, 2, 3, and 5; including Appendix 4; dated April 11, 2013.

(vi) Airbus Service Bulletin A310-54-2024, dated August 11, 1993.

(4) The following service information was approved for IBR on April 15, 2010 ((75 FR 11428, March 11, 2010); corrected May 4, 2010 (75 FR 23572)).

(i) Airbus Mandatory Service Bulletin A300-54-0075, excluding Appendixes 1, 2, and 3, Revision 02, dated June 26, 2008.

(ii) Airbus Mandatory Service Bulletin A300-54-6015, excluding Appendixes 1, 2, and 3, Revision 02, dated June 26, 2008.

(iii) Airbus Mandatory Service Bulletin A310-54-2018, excluding Appendixes 1, 2, and 3, Revision 02, dated June 26, 2008.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 8, 2015.
Michael Kaszycki,
Acting Manager, Transport Airplane Directorate, Aircraft Certification Service.

[FR Doc. 2015-31603 Filed 12-28-15; 8:45 am]

BILLING CODE 4910-13-P